DEPARTMENT OF HEALTH AND HUMAN SERVICES

Centers for Medicare & Medicaid Services

[CMS-1338-CN]

RIN 0938-AP87

Medicare Program; Prospective Payment System and Consolidated Billing for Skilled Nursing Facilities for FY 2011; Correction

AGENCY: Centers for Medicare & Medicaid Services (CMS), HHS.

ACTION: Correction notice.

SUMMARY: This document corrects technical errors that appeared in the notice with comment period published in the Federal Register on July 22, 2010 entitled, “Medicare Program; Prospective Payment System and Consolidated Billing for Skilled Nursing Facilities for FY 2011.”

DATES: Effective Date: This correction is effective October 1, 2010.

FOR FURTHER INFORMATION CONTACT: Bill Ullman, (410) 786-5667.

SUPPLEMENTARY INFORMATION:

I. Background

In FR Doc. 2010-17628 of July 22, 2010 (75 FR 42886), there were several technical errors that are identified and corrected in the “Correction of Errors” section below. The corrections described below are effective as if they had been included in the document published on July 22, 2010. Accordingly, the corrections are effective October 1, 2010.

II. Summary of Errors

We are correcting the titles and wage index columns (along with the resulting values) of Tables 8A and 8B, which appeared on page 42911 of the July 22, 2010 notice with comment period. These two tables illustrate the skilled nursing facility (SNF) prospective payment system (PPS) payment rate computations for a hypothetical “XYZ” SNF located in Cedar Rapids, IA (Urban CBSA 16300) under the RUG-IV and Hybrid RUG-III (HR-III) systems, respectively. In the title of the tables as well as in the third column (“Wage Index”), the wage index value for Cedar Rapids, IA is incorrectly displayed as 0.8858. Accordingly, in section III of this document (“Correction of Errors”), we are revising the entries in Tables 8A and 8B to reflect the correct wage index value of 0.8844. We are similarly revising the immediately preceding portion of the preamble text, which references the total PPS payment amounts displayed in these two tables. However, we note that the corresponding entry for CBSA 16300, as it appears in an addendum to the July 22, 2010 notice with comment period (Table A, “FY 2011 Wage Index for Urban Areas Based on CBSA Labor Market Areas”), already reflects the correct wage index value of 0.8844 (75 FR 42923). We are also revising the footnote that appears in Tables 8A and 8B to clarify that in these examples, all 10 of the Medicare days listed under the “CC2” RUG group would involve a resident with AIDS and, thus, would qualify for the special 128 percent adjustment under section 511 of the Medicare Prescription Drug, Improvement, and Modernization Act of 2003 (MMA) (Pub. L. 108-173, enacted on December 8, 2003).

III. Correction of Errors

In FR Doc. 2010-17628 (75 FR 42886), make the following corrections:

1. On page 42910, third column, in line five from the bottom of the page, the phrase “$41,979 for RUG-IV and $36,517 for HR-III, respectively” is revised to read “$41,935 for RUG-IV and $36,479 for HR-III, respectively”.

2. On page 42911, Tables 8A and 8B are revised to read as follows:

3. On page 42911, underneath Table 8A and Table 8B, we removed the asterisk statement “*Reflects a 128 percent adjustment from section 511 of the MMA” and replaced it with “*Reflects a 128 percent adjustment from section 511 of the MMA. All CC2 days should be considered to be for a resident with AIDS.”

IV. Waiver of Proposed Rulemaking and Delayed Effective Date

We ordinarily publish a notice of proposed rulemaking in the Federal Register to provide a period for public comment before the provisions of a rule take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary, or contrary to the public interest, and incorporates a statement of the finding and the reasons for it in the notice.

We find for good cause that it is unnecessary to undertake notice and comment rulemaking because this notice merely provides technical corrections to the FY 2011 SNF PPS notice with comment period. We are not making substantive changes to our payment methodologies or policies, but rather, are simply implementing correctly the payment methodologies and policies that we previously proposed, received comment on, and subsequently finalized. This correction notice is intended solely to ensure that the FY 2011 SNF PPS notice with comment period accurately reflects these payment methodologies and policies. Therefore, we believe that undertaking further notice and comment rulemaking activity in connection with it would be unnecessary and contrary to the public interest.

Further, we believe a delayed effective date is unnecessary because this correction notice merely corrects inadvertent technical errors. The changes noted above do not make any substantive changes to the SNF PPS payment methodologies or policies. Moreover, we regard imposing a delay in the effective date as being contrary to the public interest. We believe that it is in the public interest for providers to receive appropriate SNF PPS payments in as timely a manner as possible and to ensure that the FY 2011 SNF PPS notice with comment period accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program)

Dated: September 9, 2010.
Dawn L. Smalls,
Executive Secretary to the Department.

[FR Doc. 2010-22902 Filed 9-10-10; 11:15 am]

BILLING CODE 4120-01-P